DEPARTMENT OF THE INTERIOR

National Park Service

Draft Environmental Impact Statement/Fire Management Plan, Santa Monica Mountains National Recreation Area, Los Angeles and Ventura Counties, CA; Notice of Availability

Summary: Pursuant to § 102(2)(C) of the National Environmental Policy Act of 1969 (Pub. L. 91-190, as amended), and the Council on Environmental Quality Regulations (40 CFR Part 1500-1508), the National Park Service, Department of the Interior, has prepared a Draft Environmental Impact Statement identifying and evaluating four alternatives for a proposed update to the Fire Management Plan at Santa Monica Mountains National Recreation Area (SMMNRA), California. Potential impacts and appropriate mitigations are assessed for each alternative. When approved, the plan will guide all future fire management actions in the SMMNRA for five to ten years.

The Draft Santa Monica Mountains Environmental Impact Statement (DSMMEIS) documents the environmental impact analysis of three action alternatives, and a no action alternative. These fire management alternatives are needed to meet public safety, natural and cultural resource management, and wildland urban interface protection objectives on National Park Service (NPS) managed lands within the SMMNRA. They are also designed to protect ecological and cultural resource values based on a current understanding of the dynamic relationship between the native chaparral/coastal sage scrub vegetation and the fire climate of the Santa Monica Mountains. Related activities such as coordination with local fire agencies, assessment of fire hazards, and public education apply to all private and public lands within the SMMNRA boundary. In varying degrees each action alternative identifies measures to address resource condition and education goals as called for in the SMMNRA General Management Plan, which was approved in 2003.

Alternatives Analyzed: Elements common to all alternatives include the goal of complete suppression of wildland fires. Under the management preferred alternative, which is also the “environmentally preferred” alternative (Alternative 2, Mechanical Fuel Reduction/Ecological Prescribed Fire/Strategic Fuels Treatment) prescribed burning is used to provide resource enhancement. In addition, hazard fuel reduction projects using prescribed fire or mechanical fuel reduction are considered in strategic locations to reduce the chance of wildfires which may damage life and property or impact natural and cultural resources. Short-term and site-specific resource impacts of strategic prescribed fires are weighed against long-term and regional hazard fuel reduction benefits. Strategic zones are identified using up-to-date analysis of vegetation types, fuel characteristics, fire spread models, and potential hazards to life, property and natural and cultural resources. Mechanical fuel reduction is concentrated at the wildland urban interface to protect homes. This alternative provides maximum potential environmental benefit and minimizes the adverse impacts of fire management actions. It is also the most flexible alternative, utilizing all available fire management strategies identified to be appropriate in the Santa Monica Mountains.

Under the No-Action Alternative (Alternative 1) the current SMMNRA fire and vegetation management program, approved in 1986 and revised in 1994, would be retained. It is intended to create a landscape mosaic of varying aged chaparral stands through the application of prescribed fire in separate watersheds. Brush clearance is limited to the wildland urban interface (those areas directly adjacent to homes and roads that abut parkland or open space). In recent years the desired execution of this program has been difficult because of increasingly complex regulatory constraints on prescribed fire, especially those relating to air quality standards. Maintaining the current program has the potential in the long term to be ecologically damaging to native plant communities. It may not provide direct protection for residential areas by reducing fuel loads at the wildland urban interface. A growing body of research indicates that the program does not provide effective control of wildfire spread under severe weather conditions.

Under Alternative 3 (Mechanical Fuel Reduction/Ecological Prescribed Fire) prescribed burning is used exclusively to provide resource enhancement including control of exotic species and restoration of natural communities. Mosaic burning is eliminated. Fuel hazard reduction is concentrated at the wildland urban interface to protect homes and development and emphasizes brush clearance by mechanical means. This alternative lacks the potential risk reduction benefits from strategic fuel modification.

Under Alternative 4 (Mechanical Fuel Reduction only) vegetation management is limited to expanded brush clearance at the wildland urban interface. Prescribed fire is eliminated. This alternative provides effective protection of homes by focusing mechanical fuel reduction at the interface between homes and wildland vegetation, but lacks the ecological benefits of resource prescribed burning, and the potential risk reduction benefits from strategic fuel modification.

Planning Background: The DSMMEIS was prepared pursuant to the National Environmental Policy Act in compliance with NPS environmental requirements. Public outreach was initiated in June 2001 with a planning workshop for agencies, cooperators and other partners attended by approximately 30 people. A Scoping Notice published in the Federal Register in March 2002 encouraged comments during a six month period. Four public meetings were also held in April 2002, in Beverly Hills, Calabasas, Malibu and Thousand Oaks, California. Two additional meetings were held in June 2002 to gain additional input on the alternatives from fire agencies, cooperators and other partners. Approximately 35 citizens attended these six sessions. Letters were also sent to Native American representatives, requesting their comments and concerns related to cultural activities, practices or resources. In addition to the oral comments, the park received nine letters, faxes and emails; a majority of respondents supported a strategy that provided the most flexibility. One letter encouraged planners to minimize prescribed burning as a management tool. These responses, along with information from the 2001 preliminary workshop involving numerous fire management and land management agencies, have been taken into account in the development of alternatives.

Public Meetings: In order to facilitate public review and comment on the DSMMEIS, several public meetings are planned for August 2004 (with at least two to be held in the evening and one in the afternoon; possible locations include Beverly Hills, Malibu, Calabasas/Agoura Hills, and Thousand Oaks, California). Detailed information on location and times for all public meetings will be published in local and regional newspapers several weeks in advance and announced on the park's webpage. SMMNRA management and fire planning officials will attend all sessions to present the DSMMEIS and receive comments and answer questions.

Comments: The complete DSMMEIS will be posted on the SMMNRA webpage at http://www.nps.gov/samo/pphtml/documents.html. Copies in printed or CD form will be available at park headquarters in Thousand Oaks and at local and regional libraries in the greater Los Angeles area; these locations will also be posted on the Web site. Copies will also be sent directly to those who request it (specify desired format and inquire at (805) 370-2331 or via eMail per address below). All written comments must be postmarked, or transmitted electronically, not later than September 15, 2004. All comments should be addressed to the Superintendent and mailed to Santa Monica Mountains NRA, 401 W. Hillcrest Drive, Thousand Oaks, CA 91360 Attn: Fire Management Plan; or eMailed to: <samo_fire@nps.gov> (in the subject line, type: Fire Mgmt Plan EIS). All comments received will be maintained in the administrative record and the information provided may be made available for public review. If individuals submitting comments request that their name and/or address be withheld from public disclosure, it will be honored to the extent allowable by law. Such requests must be stated prominently in the beginning of the comments. There also may be circumstances wherein the NPS will withhold a respondent's identity as allowable by law. As always, NPS will make available to public inspection all submissions from organizations or businesses and from persons identifying themselves as representatives or officials of organizations and businesses, and, anonymous comments may not be considered.

Decision Process: Depending upon the degree of public interest and response from other agencies and organizations, at this time it is anticipated that the Final Fire Management Plan and Environmental Impact Statement will be completed during 2005; availability of the document will be duly noticed in the Federal Register and announced in local and regional press. Subsequently, a Record of Decision may be approved not sooner than thirty days after the final document is distributed. As a delegated EIS, the official responsible for the decision is the Regional Director, Pacific West Region, National Park Service; subsequently the official responsible for implementation is the Superintendent, Santa Monica Mountains NRA.

Dated: May 11, 2004.
Jonathan B. Jarvis,
Regional Director, Pacific West Region.

[FR Doc. 04-13520 Filed 6-15-04; 8:45 am]

BILLING CODE 4312-52-P